DEPARTMENT OF COMMERCE

International Trade Administration

[A-570-967]

Aluminum Extrusions From the People's Republic of China: Final Determination of Sales at Less Than Fair Value

AGENCY: Import Administration, International Trade Administration, Department of Commerce.

DATES: Effective Date: April 4, 2011.

SUMMARY: On November 12, 2010, the Department of Commerce (“Department”) published its preliminary determination of sales at less than fair value (“LTFV”) in the antidumping investigation of aluminum extrusions from the People's Republic of China (“PRC”).¹ We invited interested parties to comment on our preliminary determination. Based on our analysis of the comments we received, we have made changes to our margin calculations for the mandatory respondents. The final dumping margins for this investigation are listed in the “Final Determination Margins” section below.

¹ See Aluminum Extrusions from the People's Republic of China: Notice of Preliminary Determination of Sales at Less Than Fair Value, and Preliminary Determination of Targeted Dumping, 75 FR 69403 (November 12, 2010) (“Preliminary Determination”).

FOR FURTHER INFORMATION CONTACT: Paul Stolz or Lori Apodaca, AD/CVD Operations, Office 8, Import Administration, International Trade Administration, U.S. Department of Commerce, 14th Street and Constitution Avenue, NW., Washington, DC 20230; telephone: (202) 482-4474 or (202) 482-4551, respectively.

SUPPLEMENTARY INFORMATION:

Case History

The Department published its Preliminary Determination on November 12, 2010. The Department subsequently issued a ministerial error memorandum, in which it agreed to correct several ministerial errors.² On January 4, 2011, pursuant to the correction of ministerial errors, the Department published an Amended Preliminary Determination.³

² See Memorandum entitled “Ministerial Error Memorandum, Aluminum Extrusions from the People's Republic of China, Preliminary Determination of Sales at Less Than Fair Value,” dated December 21, 2010, on file in the Department's Central Records Unit (“CRU”), Room 7046 of the main Department building.

³ See Aluminum Extrusions From the People's Republic of China: Notice of Amended Preliminary Determination of Sales at Less Than Fair Value, 76 FR 323 (January 4, 2011) (“Amended Preliminary Determination”).

Between December 6, 2010, and December 21, 2010, the Department conducted verifications of Guang Ya Aluminium Industries Co., Ltd. (“Guang Ya”), Foshan Guangcheng Aluminium Co., Ltd. (“Guangcheng”), Kong Ah International Co., Ltd.(“Kong Ah”), and Guang Ya Aluminium Industries (Hong Kong) Ltd. (“Guang Ya HK”) (collectively the “Guang Ya Group”); Zhaoqing New Zhongya Aluminum Co., Ltd. (“ZNZ”), Zhongya Shaped Aluminium (HK) Holding Limited (“Shaped Aluminum”) and Karlton Aluminum Company Ltd. (“Karlton”) (collectively “New Zhongya”); and Xinya Aluminum & Stainless Steel Product Co., Ltd. (“Xinya”) (all parties, collectively “the Guang Ya Group/New Zhongya/Xinya”). The Department released verification reports for each of these companies on January 28, 2011.⁴ See the “Verification” section below for additional information. On December 12, 2010, Aavid Thermalloy, Inc. (“Aavid”) submitted a request for a scope hearing. On December 13, 2010, The Aluminum Extrusions Fair Trade Committee,⁵ and the United Steel, Paper and Forestry, Rubber, Manufacturing, Energy, Allied Industrial and Service Workers International Union (collectively, “Petitioners”) and New Zhongya submitted requests for a public hearing. On February 9, 2011, Petitioners submitted a request for a closed session of the hearing. On March 2, 2011, the Department held a public scope hearing for the antidumping duty and countervailing duty investigations, and both an open and a closed session of the antidumping duty hearing.

⁴ See the Department's verification reports on the record of this investigation, all on file in the CRU.

⁵ The Aluminum Extrusions fair Trade Committee is comprised of Aerolite Extrusion Company, Alexandria Extrusion Company, Benada Aluminum of Florida, Inc., William L. Bonnell Company, Inc., Frontier Aluminum Corporation, Futura Industries Corporation, Hydro Aluminum North America, Inc., Kaiser Aluminum Corporation, Profile Extrusions Company, Sapa Extrusions, Inc., and Western Extrusions Corporation.

New Zhongya and Petitioners submitted surrogate value comments on December 22, 2010. On February 9, 2011, case briefs were filed by the Guang Ya Group, the Government of China (“GOC”), Petitioners, and New Zhongya. On February 14, 2011, the Guang Ya Group, New Zhongya, and Petitioners filed their rebuttal briefs.

Period of Investigation

The period of investigation (“POI”) is July 1, 2009, through December 31, 2009. This period corresponds to the two most recent fiscal quarters prior to the month of the filing of the petition, which was March 2009. See 19 CFR 351.204(b)(1).

Verification

As provided in section 782(i) of the Tariff Act of 1930, as amended (“Act”), we conducted verification of the information submitted by the Guang Ya Group/New Zhongya/Xinya for use in our final determination.⁶ We used standard verification procedures, including the examination of relevant accounting and production records, as appropriate, as well as original source documents provided by respondents. However, as detailed in our verification report and discussed further below, we were unable verify the information submitted by Xinya.

⁶ See the Department's verification reports on the record of this investigation in the CRU, with respect to these entities.

Analysis of Comments Received

The issues raised in the case and rebuttal briefs submitted in this investigation are addressed in the “Issues and Decision Memorandum for the Final Determination in the Less-Than-Fair-Value Investigation of Aluminum Extrusions from the People's Republic of China,” (“Issues and Decision Memorandum”) dated concurrently with this notice, which is hereby adopted by this notice. A list of the issues which parties have raised and to which we have responded in the Issues and Decision Memorandum is attached to this notice as Appendix I. The Issues and Decision Memorandum is a public document on file in the CRU and is accessible on the Web at http://ia.ita.doc.gov/frn. The paper copy and electronic version of the memorandum are identical in content.

Changes Since the Preliminary Determination

• We are amending the language of the scope of the antidumping duty (“AD”) and countervailing duty (“CVD”) investigations for clarification purposes as described in detail in the accompanying Issues and Decision Memorandum. See Comment 3, A-J in the accompanying Issues and Decision Memorandum.

• For the final determination, the Department has adjusted the Petition rates using the revised surrogate value for labor as described in detail in the accompanying Issues and Decision Memorandum. The revised petition margins range from 32.53 percent to 33.28 percent. See Comment 1, A-F, Labor Wage Rate in the accompanying Issues and Decision Memorandum; see also March 28, 2011 Memorandum to the File, regarding Investigation of Certain Aluminum Extrusions from the People's Republic of China: Petition Rate Recalculation (“Petition Rate Recalculation Memo”).

• For the final determination, we are applying a rate based on adverse facts available (“AFA”) to the Guang Ya Group/New Zhongya/Xinya single entity. As AFA we have assigned the highest rate from the petition of 33.18 percent, as recalculated for the final determination.⁷ See Issues and Decision Memorandum at Comment 5: Application of Total AFA; see also Memorandum regarding: Application of Total Adverse Facts Available for the Guang Ya Group/New Zhongya/Xinya in the Antidumping Duty Investigation of Aluminum Extrusions from the People's Republic of China, dated March 28, 2011 (“Guang Ya Group/New Zhongya/Xinya AFA Memo”).

⁷ See Petition Rate Recalculation Memo.

• For the final determination, we have assigned the 29 separate rate applicants to whom we are granting a separate rate a dumping margin of 32.79 percent, based on the simple average of the margins alleged in the petition, as recalculated for this final determination. See Comment 1, A-F, Labor Wage Rate in the accompanying Issues and Decision Memorandum; see also Petition Rate Recalculation Memo, detailing recalculation to correct for a ministerial error.

Scope of the Investigations

The merchandise covered by this investigation is aluminum extrusions which are shapes and forms, produced by an extrusion process, made from aluminum alloys having metallic elements corresponding to the alloy series designations published by The Aluminum Association commencing with the numbers 1, 3, and 6 (or proprietary equivalents or other certifying body equivalents). Specifically, the subject merchandise made from aluminum alloy with an Aluminum Association series designation commencing with the number 1 contains not less than 99 percent aluminum by weight. The subject merchandise made from aluminum alloy with an Aluminum Association series designation commencing with the number 3 contains manganese as the major alloying element, with manganese accounting for not more than 3.0 percent of total materials by weight. The subject merchandise is made from an aluminum alloy with an Aluminum Association series designation commencing with the number 6 contains magnesium and silicon as the major alloying elements, with magnesium accounting for at least 0.1 percent but not more than 2.0 percent of total materials by weight, and silicon accounting for at least 0.1 percent but not more than 3.0 percent of total materials by weight. The subject aluminum extrusions are properly identified by a four-digit alloy series without either a decimal point or leading letter. Illustrative examples from among the approximately 160 registered alloys that may characterize the subject merchandise are as follows: 1350, 3003, and 6060.

Aluminum extrusions are produced and imported in a wide variety of shapes and forms, including, but not limited to, hollow profiles, other solid profiles, pipes, tubes, bars, and rods. Aluminum extrusions that are drawn subsequent to extrusion (“drawn aluminum”) are also included in the scope.

Aluminum extrusions are produced and imported with a variety of finishes (both coatings and surface treatments), and types of fabrication. The types of coatings and treatments applied to subject aluminum extrusions include, but are not limited to, extrusions that are mill finished (i.e., without any coating or further finishing), brushed, buffed, polished, anodized (including bright-dip anodized), liquid painted, or powder coated. Aluminum extrusions may also be fabricated, i.e., prepared for assembly. Such operations would include, but are not limited to, extrusions that are cut-to-length, machined, drilled, punched, notched, bent, stretched, knurled, swedged, mitered, chamfered, threaded, and spun. The subject merchandise includes aluminum extrusions that are finished (coated, painted, etc.), fabricated, or any combination thereof.

Subject aluminum extrusions may be described at the time of importation as parts for final finished products that are assembled after importation, including, but not limited to, window frames, door frames, solar panels, curtain walls, or furniture. Such parts that otherwise meet the definition of aluminum extrusions are included in the scope. The scope includes the aluminum extrusion components that are attached (e.g., by welding or fasteners) to form subassemblies, i.e., partially assembled merchandise unless imported as part of the finished goods `kit' defined further below. The scope does not include the non-aluminum extrusion components of subassemblies or subject kits.

Subject extrusions may be identified with reference to their end use, such as fence posts, electrical conduits, heat sinks, door thresholds, or carpet trim. Such goods are subject merchandise if they otherwise meet the scope definition, regardless of whether they are ready for use at the time of importation.

The following aluminum extrusion products are excluded: Aluminum extrusions made from aluminum alloy with an Aluminum Association series designations commencing with the number 2 and containing in excess of 1.5 percent copper by weight; aluminum extrusions made from aluminum alloy with an Aluminum Association series designation commencing with the number 5 and containing in excess of 1.0 percent magnesium by weight; and aluminum extrusions made from aluminum alloy with an Aluminum Association series designation commencing with the number 7 and containing in excess of 2.0 percent zinc by weight.

The scope also excludes finished merchandise containing aluminum extrusions as parts that are fully and permanently assembled and completed at the time of entry, such as finished windows with glass, doors with glass or vinyl, picture frames with glass pane and backing material, and solar panels. The scope also excludes finished goods containing aluminum extrusions that are entered unassembled in a “finished goods kit.” A finished goods kit is understood to mean a packaged combination of parts that contains, at the time of importation, all of the necessary parts to fully assemble a final finished good and requires no further finishing or fabrication, such as cutting or punching, and is assembled `as is' into a finished product. An imported product will not be considered a `finished goods kit' and therefore excluded from the scope of the investigation merely by including fasteners such as screws, bolts, etc. in the packaging with an aluminum extrusion product.

The scope also excludes aluminum alloy sheet or plates produced by other than the extrusion process, such as aluminum products produced by a method of casting. Cast aluminum products are properly identified by four digits with a decimal point between the third and fourth digit. A letter may also precede the four digits. The following Aluminum Association designations are representative of aluminum alloys for casting: 208.0, 295.0, 308.0, 355.0, C355.0, 356.0, A356.0, A357.0, 360.0, 366.0, 380.0, A380.0, 413.0, 443.0, 514.0, 518.1, and 712.0. The scope also excludes pure, unwrought aluminum in any form.

The scope also excludes collapsible tubular containers composed of metallic elements corresponding to alloy code 1080A as designated by the Aluminum Association where the tubular container (excluding the nozzle) meets each of the following dimensional characteristics: (1) Length of 37 mm or 62 mm, (2) outer diameter of 11.0 mm or 12.7 mm, and (3) wall thickness not exceeding 0.13 mm.

Imports of the subject merchandise are provided for under the following categories of the Harmonized Tariff Schedule of the United States (“HTS”): 7604.21.0000, 7604.29.1000, 7604.29.3010, 7604.29.3050, 7604.29.5030, 7604.29.5060, 7608.20.0030, and 7608.20.0090. The subject merchandise entered as parts of other aluminum products may be classifiable under the following additional Chapter 76 subheadings: 7610.10, 7610.90, 7615.19, 7615.20, and 7616.99 as well as under other HTS chapters. In addition, fin evaporator coils may be classifiable under HTS numbers: 8418.99.80.50 and 8418.99.80.60. While HTS subheadings are provided for convenience and customs purposes, the written description of the scope in this proceeding is dispositive.

Scope Comments

Concurrent with the Preliminary Determination, on October 27, 2010, the Department issued a decision memorandum addressing ten scope issues in this and the concurrent countervailing duty investigation on aluminum extrusions from the PRC.⁸

⁸ See October 27, 2010, Memorandum entitled “Preliminary Determinations: Comments on the Scope of the Investigations” (“Preliminary Scope Memorandum”); see also Preliminary Determination.

As stated in the Preliminary Determination, scope comments received on or after October 7, 2010, but prior to the Preliminary Determination were not submitted in time for consideration for the Preliminary Determination and that, as a result, we would fully consider any such comments for the final determination. In addition, it came to our attention that our Preliminary Scope Memorandum inadvertently did not address scope comments submitted by Petitioners on May 10, 2010. We provided interested parties an opportunity to comment on the Preliminary Scope Memorandum. In response, multiple parties submitted scope case briefs on January 20, 2011, and scope rebuttal briefs on January 25, 2011.

For the final determination, we have considered Petitioners' May 10, 2010, scope comments, the scope comments provided by all parties on or after October 7, 2011, but prior to the Preliminary Determination, and the scope case and rebuttal briefs submitted on January 20 and January 25, 2011, respectively, and addressed these issues in the Issues and Decision Memorandum.⁹

⁹ Specifically: Floturn, Inc. (“Floturn”) submitted comments on October 7, 2010; Petitioners on October 13, 2010, October 19, 2010, and October 22, 2010; the Shower Door, Tub and Shower Enclosures Manufacturers' Alliance (“SDMA”) on October 7, 2010; Eagle Metals, Inc. and Eagle Metals Distributors, Inc. (collectively, “Eagle Metals”) on October 12, 2010, October 13, 2010, and October 21, 2010; Aavid Thermalloy (“Aavid”) on October 13, 2010, and October 21, 2010; Brazeway Inc. (“Brazeway”) on October 19, 2010, and December 15, 2010; Maine Ornamental, LLC (“Maine Ornamental”) on October 22, 2010; and Hubble Power Systems (“HPS”) on October 26, 2010. Additionally, Petitioners, Floturn, SDMA, Eagle Metals, Aavid, Brazeway, and Maine Ornamental submitted scope case briefs on January 20, 2011; Petitioners, Floturn, SDMA, and Brazeway submitted scope rebuttal briefs on January 25, 2011.

On May 10, 2010, and in its scope case brief of January 11, 2011, Petitioners provided a series of proposed wording changes to clarify the scope language of these investigations. No other party provided comments on these proposed changes. On February 28, 2011, the Department requested that Petitioners clarify whether the Petition intended to cover the non-aluminum components of subject kits and subassemblies and that Petitioners provide language if the intent of the Petition was to not cover the non-aluminum components. On March 9, 2011, Petitioners submitted clarifying language stipulating that it is the intent of the petition to cover only the aluminum extrusion components of entries of subject aluminum extrusion subassemblies or subject kits.

We have adopted all of Petitioners' clarifications for the final determination. For a complete discussion of the parties' scope-related comments (including the clarifications discussed above) and the Department's position, see the Issues and Decision Memorandum accompanying this notice at Comment 3, A-J.

Targeted Dumping

Because we are basing the margin of the sole mandatory respondent on total AFA for the final determination, we have not considered Petitioners' targeted dumping allegation for the final determination.

Surrogate Country

In the Preliminary Determination, we stated that we had selected India as the appropriate surrogate country to use in this investigation for the following reasons: (1) It is a significant producer of comparable merchandise; (2) it is at a level of economic development comparable to that of the PRC, pursuant to section 773(c)(4) of the Act; and (3) we have reliable data from India that we can use to value the FOPs. See Preliminary Determination. For the final determination, we received no comments on surrogate country selection and, accordingly, made no changes to our findings with respect to the selection of a surrogate country.

Affiliation

For the reasons set forth in our Preliminary Determination, we continue to find the entities comprising the Guang Ya Group, and the entities comprising New Zhongya, affiliated pursuant to section 771(33)(A) of the Act, as each entity is owned by a member of the Kuang family. Further, we find that New Zhongya is affiliated with one of its reported customers during the POI pursuant to section 771(33)(F) of the Act.¹⁰ Furthermore, we continue to find the Guang Ya Group/New Zhongya and Xinya affiliated pursuant to section 771(33)(A) of the Act.

¹⁰ See March 28, 2011, Memorandum regarding the Investigation of Aluminum Extrusions from the People's Republic of China: Final Determination Regarding Affiliation and Collapsing of Guang Ya Aluminium Industries Co., Ltd., Foshan Guangcheng Aluminium Co., Ltd., Kong Ah International Co., Ltd., and Guang Ya Aluminium Industries (Hong Kong) Ltd.; Zhaoqing New Zhongya Aluminum Co., Ltd., Zhongya Shaped Aluminium (HK) Holding Ltd., Karlton Aluminum Co., Ltd.; and Xinya Aluminum & Stainless Steel Product Co., Ltd. (“Final Affiliation/Collapsing Memo”).

In making this determination, we note that the Guang Ya Group and New Zhongya each stated on the record that a Kuang sibling was “Shareholder” of Xinya, and though the Guang Ya Group also made other inconsistent statements regarding ownership of Xinya, neither party has recanted these original statements. Further, because the ownership information provided by Xinya could not be verified, we do not accord any weight to its ownership claims, which constitute unverifiable information. Thus, we continue to find that the record evidence indicates that Xinya is owned by a member of the Kuang family. Because each entity is owned by a member of the Kuang family, we conclude that the owners of Guang Ya Group, New Zhongya, and Xinya are members of a family grouping, pursuant to section 771(33)(A) of the Act. Further, we find that the ownership by the family grouping satisfies the requirement of affiliation pursuant to section 771(33)(F) of the Act, because all of the companies within the Guang Ya Group, New Zhongya, and Xinya are under the common control of the family grouping.

To the extent that section 771(33) of the Act does not conflict with the Department's application of separate rates and enforcement of the non-market economy (“NME”) provision or section 773(c) of the Act, the Department will determine that affiliated exporters and/or producers are a single entity if the facts of the case support such a finding.¹¹ The Court of International Trade (“CIT”) has upheld the Department's practice of determining whether to treat two or more companies as a single entity for antidumping purposes based on a consideration of whether there exists a significant potential for manipulation of prices and/or export decisions.¹² The determination to treat the Guang Ya Group, New Zhongya, and Xinya as a single entity, is based on a finding that the family grouping holds essentially full ownership of the Guang Ya Group, New Zhongya, and Xinya, all of which are producers and/or exporters of merchandise under consideration in this investigation. Therefore, in considering the level of common ownership pursuant to 19 CFR 351.401(f)(2)(i), we find nearly 100 percent common ownership of the Guang Ya Group, New Zhongya, and Xinya by the family grouping. In this context, the family in question is the “person” jointly owning and controlling the Guang Ya Group, New Zhongya, and Xinya.

¹¹ See Certain Preserved Mushrooms From the People's Republic of China: Preliminary Results of Sixth New Shipper Review and Preliminary Results and Partial Rescission of Fourth Antidumping Duty Administrative Review, 69 FR 10410, 10413 (March 5, 2004) (“Mushrooms”), unchanged in Final Results and Final Rescission, in Part, of Antidumping Duty Administrative Review: Certain Preserved Mushrooms From the People's Republic of China, 70 FR 54361 (September 14, 2005).

¹² See Hontex Enterprises v. United States, 342 F. Supp. 2d 1225, 1230-34 (CIT 2004) (“Hontex II”).

Regarding 19 CFR 351.401(f)(2)(ii), the extent to which managerial employees or board members of one firm sit on the board of directors of an affiliated firm, the record of this proceeding shows that Kuang family members sit on the boards of, and have management positions at, the Guang Ya Group, and New Zhongya, as described above. With respect to the third criterion for finding significant potential for manipulation, 19 CFR 351.401(f)(2)(iii), the presence of intertwined operations, information on the record indicates significant financial transactions between Xinya and the owner of New Zhongya, which are recorded as part of New Zhongya's accounting records.¹³ Accordingly, we find that the relationship between the Guang Ya Group, New Zhongya, and Xinya poses a significant potential for the manipulation of price or production pursuant to 19 CFR 351.401(f)(2).

¹³ See January 28, 2010, Memorandum regarding the Verification of the Sales and Factors Responses of Zhaoqing New Zhongya Aluminum Co., Ltd. (“ZNZ”), Zhongya Shaped Aluminium (HK) Holding Limited (“Shaped Aluminum”) and Karlton Aluminum Company Ltd. (“Karlton”) (collectively “New Zhongya”) in the Less-Than-Fair Value Investigation of Aluminum Extrusions from the People's Republic of China (“New Zhongya Verification Report”), at 10.

Thus, by virtue of the common ownership of the three entities, family members on the boards of at least two of the companies, evidence of financial transactions between two of these entities, and the fact that all entities produce and/or export merchandise under consideration, we find that there exists the significant potential for manipulation such that the Guang Ya Group, New Zhongya and Xinya should be treated as a single entity.¹⁴

¹⁴ Stainless Steel Bar from India: Final Results of Antidumping Duty Administrative Review, 74 FR 47198 (September 15, 2009), and accompanying Issues and Decision Memorandum at Comment 1.

Separate Rates

In proceedings involving NME countries, the Department begins with a rebuttable presumption that all exporters within the country are subject to government control and, thus, should be assigned a single antidumping duty deposit rate. It is the Department's policy to assign all exporters of merchandise subject to an investigation involving an NME country this single rate unless an exporter can demonstrate that it is sufficiently independent to be entitled to a separate rate.¹⁵

¹⁵ See Final Determination of Sales at Less Than Fair Value: Sparklers from the People's Republic of China, 56 FR 20588 (May 6, 1991) (“Sparklers”), as amplified by Notice of Final Determination of Sales at Less Than Fair Value: Silicon Carbide from the People's Republic of China, 59 FR 22585 (May 2, 1994) (“Silicon Carbide”), and 19 CFR 351.107(d).

In the Preliminary Determination, we found that the mandatory respondent (i.e., the Guang Ya Group/New Zhongya) ¹⁶ and 29 separate-rate applicants demonstrated their eligibility for separate-rate status. Specifically, both Guang Ya Group and New Zhongya provided, and the Department successfully verified, the requisite information to demonstrate an absence of both de jure and de facto government control over their respective export activities. For the final determination, we continue to find that the Guang Ya Group/New Zhongya single entity is eligible for a separate rate.

¹⁶ Because there is no record information to indicate that Xinya, which is part of this collapsed entity, is an exporter to the United States, Xinya is not eligible for consideration of a separate rate.

Further, because no parties commented on the separate-rate status of the other separate-rate applicants and no information has come to light that would alter our preliminary findings, we continue to find that the evidence placed on the record of this investigation by the 29 separate-rate applicants to whom we preliminarily granted separate rate status demonstrates both a de jure and de facto absence of government control, with respect to their respective exports of the merchandise under investigation; thus they are eligible for separate-rate status. See Preliminary Determination.

In the Preliminary Determination, we denied separate rate status to one separate rate applicant, Shanghai Canghai Aluminum Tube Packing Co. (“Shanghai Canghai”), but stated that we would provide it with an additional opportunity to correct deficiencies submitted in its original separate rate application (“SRA”) and September 8, 2010, Supplemental Questionnaire Response (“SQR”) to the Department's supplemental questionnaire.¹⁷ On November 27, 2010, the Department sent another letter to Shanghai Canghai rejecting its September 8, 2010, SQR because of procedural deficiencies and because it contained insufficient documentation to analyze Shanghai Canghai's eligibility for a separate rate, including incomplete narrative responses to the questions asked and no translations. In this letter, however, we also provided Shanghai Canghai an opportunity to re-submit its response to correct these deficiencies.¹⁸ On or about December 9, 2010, the Department received Shanghai Canghai's response to the Department's November 27, 2010, letter. However, the December 9, 2010, SQR was not filed in conformance with the Department's regulations regarding filing, service, or certification of documents (see 19 CFR 351.303). Further, Shanghai Canghai's December 9, 2010, SQR again provided no narrative responses to any of the Department's questions from the separate-rate application. As a result, on March 17, 2011, the Department sent a letter to Shanghai Canghai rejecting its December 9, 2010, response. Because Shanghai Canghai has failed to respond adequately to the Department's request for separate rate information despite being given several opportunities to do so, the Department has not considered Shanghai Canghai's submission for the final determination nor retained it for the record. Thus, for this final determination, we are not granting Shanghai Canghai a separate rate, and it is part of the PRC-wide entity.

¹⁷ See Preliminary Determination, the Department's June 25, 2010, letter to Shanghai Canghai granting the company's request to extend the deadline for its SRA submission to July 2, 2010, and the Department's August 18, 2010, letter to Shanghai Canghai regarding Antidumping Duty Investigation of Aluminum Extrusions from the People's Republic of China: Supplemental Questionnaire—Separate Rate Application.

¹⁸ See the Department's November 27, 2010, letter to Shanghai Canghai regarding re-filing its Separate Rate Supplemental Questionnaire.

Margin for the Separate Rate Companies

Since we assigned the individually examined respondent a dumping margin based on total AFA, we do not have any mandatory respondents in this investigation whose dumping margin is not based on AFA. Thus, we have assigned the 29 separate rate applicants to whom we are granting a separate rate a dumping margin based on the simple average of the margins alleged in the petition, as recalculated for the final determination.

Use of Facts Available

Section 776(a)(2) of the Act, provides that, if an interested party: (A) Withholds information that has been requested by the Department; (B) fails to provide such information in a timely manner or in the form or manner requested by the Department, subject to sections 782(c)(1) and (e) of the Act; (C) significantly impedes a proceeding under the antidumping statute; or (D) provides such information but the information cannot be verified, the Department shall, subject to subsection 782(d) of the Act, use facts otherwise available in reaching the applicable determination.

Section 782(c)(1) of the Act provides that if an interested party “promptly after receiving a request from {the Department} for information, notifies {the Department} that such party is unable to submit the information requested in the requested form and manner, together with a full explanation and suggested alternative forms in which such party is able to submit the information,” the Department may modify the requirements to avoid imposing an unreasonable burden on that party.

Section 782(d) of the Act provides that, if the Department determines that a response to a request for information does not comply with the request, the Department will inform the person submitting the response of the nature of the deficiency and shall, to the extent practicable, provide that person the opportunity to remedy or explain the deficiency. If that person submits further information that continues to be unsatisfactory, or this information is not submitted within the applicable time limits, the Department may, subject to section 782(e), disregard all or part of the original and subsequent responses, as appropriate.

Section 782(e) of the Act states that the Department shall not decline to consider information deemed “deficient” under section 782(d) if: (1) The information is submitted by the established deadline; (2) the information can be verified; (3) the information is not so incomplete that it cannot serve as a reliable basis for reaching the applicable determination; (4) the interested party has demonstrated that it acted to the best of its ability; and (5) the information can be used without undue difficulties.

Furthermore, section 776(b) of the Act states that if the Department “finds that an interested party has failed to cooperate by not acting to the best of its ability to comply with a request for information from the {Department}, the {Department}, in reaching the applicable determination under this title, may use an inference that is adverse to the interests of that party in selecting from among the facts otherwise available.” ¹⁹

¹⁹ See also Statement of Administrative Action (“SAA”) accompanying the Uruguay Round Agreements Act (URAA), H.R. Rep. No. 103-316, Vol. 1 at 870 (1994).

For this final determination, in accordance with sections 773(c)(3)(A) and (B) of the Act and sections 776(a)(2)(A), (B), (C), and (D) and 776(b) of the Act, we have determined that the use of AFA is warranted for the Guang Ya Group/New Zhongya/Xinya, and the PRC-wide entity as discussed below.

Guang Ya Group/New Zhongya/Xinya

The Department has determined that the information to construct an accurate and otherwise reliable margin is not available on the record with respect to the Guang Ya Group/New Zhongya/Xinya. The Department reached this determination because the Guang Ya Group/New Zhongya/Xinya withheld information that had been requested, failed to provide such information in a timely manner or in the form or manner requested, significantly impeded this proceeding, and provided information that could not be verified, pursuant to sections 776(a)(1) and (2)(A), (B), (C) and (D) of the of Act.²⁰ Specifically, Guang Ya Group's narrative questionnaire responses did not comport with the data sections of those same responses; moreover, the factors of production data submitted by Guang Ya Group post-verification did not reflect the data verified by the Department at Guang Ya Group's facilities. New Zhongya mis-reported a portion of its U.S. sales indicating that they were constructed export price sales to the first unaffiliated party in the United States when in fact they were the transfer price sales to its U.S. affiliated party. Finally, Xinya provided no documentation at verification to demonstrate its claimed ownership. For additional detail, see Guang Ya Group/New Zhongya/Xinya AFA Memo. As a result, the Department has determined to apply the facts otherwise available. Further, because the Department finds that the Guang Ya Group/New Zhongya/Xinya failed to cooperate to the best of its ability, pursuant to section 776(b) of the Act, the Department has determined to use an adverse inference when applying facts available for the final determination in this investigation.²¹

²⁰ See Guang Ya Group/New Zhongya/Xinya AFA Memo.

²¹ See Guang Ya Group/New Zhongya/Xinya AFA Memo.

The PRC-Wide Entity

Because we begin with the presumption that all companies within an NME country are subject to government control, and because only the companies listed under the “Final Determination Margins” section, below, have overcome that presumption, we are applying a single antidumping rate (i.e., the PRC-wide rate) to all other exporters of subject merchandise from the PRC because these other companies did not demonstrate entitlement to a separate rate.²² The PRC-wide rate applies to all entries of subject merchandise except for entries from the companies eligible for separate rate status.

²² See, e.g., Synthetic Indigo From the People's Republic of China; Notice of Final Determination of Sales at Less Than Fair Value, 65 FR 25706, 25707 (May 3, 2000).

In the Preliminary Determination, the Department found that there were producers/exporters of the subject merchandise during the POI from the PRC that did not respond to the Department's request for information. Further, we treated these PRC producers/exporters as part of the PRC-wide entity because they did not demonstrate their eligibility for a separate rate. Additionally, as a result of the PRC-wide entity's failure to respond to our requests for information we further determined that, pursuant to section 776(a)(2)(A) of the Act, the PRC-wide entity failed to cooperate by not acting to the best of its ability to comply with requests for information. See id. Accordingly, we also determined that in selecting from among the facts available an adverse inference was warranted because of the PRC-wide entity's failure to cooperate to the best of its ability. As AFA, we preliminarily assigned to the PRC-wide entity a recalculated rate of 33.18 percent, the highest calculated rate from the petition, as recalculated for the Amended Preliminary Determination.²³ See Statement of Administrative Action accompanying the URAA, H.R. Rep. No. 103-316, vol. 1, at 870 (1994) (“SAA”).

²³ See Amended Preliminary Determination; see also the December 10, 2010, Memorandum to the File, regarding the Investigation of Certain Aluminum Extrusions from the People's Republic of China: Petition Rate recalculation; (“Amended Prelim Petition Rate Recalculation Memo”); and the December 10, 2010, Memorandum to the File, regarding the Amended Preliminary Determination Analysis Memorandum (“Amended Preliminary Determination Analysis Memo”).

Because the PRC-wide entity did not respond to our requests for information, significantly impeded the proceeding, and withheld information requested by the Department, pursuant to sections 776(a)(2)(A), (C), and (D) of the Act, we determine, as in the Preliminary Determination, that in selecting from among the facts available an adverse inference is appropriate to determine the PRC-wide rate, recalculated for the final determination, because of the PRC-wide entity's failure to cooperate to the best of its ability.²⁴

²⁴ See Petition Rate Recalculation Memo.

Selection of the Adverse Facts Available Rate

In deciding which facts to use as AFA, section 776(b) of the Act and 19 CFR 351.308(c)(1) provide that the Department may rely on information derived from (1) the petition, (2) a final determination in the investigation, (3) any previous review or determination, or (4) any information placed on the record. In selecting a rate for AFA, the Department selects a rate that is sufficiently adverse “as to effectuate the purpose of the facts available rule to induce respondents to provide the Department with complete and accurate information in a timely manner.” ²⁵ It is also the Department's practice to select a rate that ensures “that the party does not obtain a more favorable result by failing to cooperate than if it had cooperated fully.” ²⁶

²⁵ See Notice of Final Determination of Sales at Less than Fair Value: Static Random Access Memory Semiconductors From Taiwan, 63 FR 8909, 8932 (February 23, 1998).

²⁶ See Brake Rotors From the People's Republic of China: Final Results and Partial Rescission of the Seventh Administrative Review; Final Results of the Eleventh New Shipper Review, 70 FR 69937, 69939 (November 18, 2005); See also SAA at 870.

Generally, the Department finds selecting the highest rate in any segment of the proceeding as AFA to be appropriate.²⁷ It is the Department's practice to select, as AFA, the higher of the (a) highest margin alleged in the petition, or (b) the highest calculated rate of any respondent in the investigation.²⁸ In the instant investigation, as AFA, we have assigned to the PRC-wide entity the highest petition rate (as recalculated for the final determination) on the record of this proceeding that can be corroborated, 33.28 percent, as re-calculated for the final determination.²⁹ For the final determination in this investigation, the Department has selected this rate as the most appropriate from the available sources to effectuate the purposes of AFA. Accordingly, the Department has assigned both the Guang Ya Group/New Zhongya/Xinya and the PRC-wide entity an AFA rate of 33.28 percent.

²⁷ See, e.g., Certain Cased Pencils from the People's Republic of China; Preliminary Results of Antidumping Duty Administrative Review and Intent to Rescind in Part, 70 FR 76755, 76761 (December 28, 2005) unchanged in final, Certain Cased Pencils from the People's Republic of China; Final Results and Partial Rescission of Antidumping Duty Administrative Review, 71 FR 38366 (July 6, 2006), and accompanying Issues and Decision Memorandum at Comment 10.

²⁸ See Final Determination of Sales at Less Than Fair Value: Certain Cold-Rolled Carbon Quality Steel Products from the People's Republic of China, 65 FR 34660 (May 21, 2000), and accompanying Issues and Decision Memorandum at “Facts Available.”

²⁹ See Petition Rate Recalculation Memo; see also Comment 1C, Labor Wage Rate in the accompanying Issues and Decision Memorandum.

Corroboration

Section 776(c) of the Act provides that, when the Department relies on secondary information in using the facts otherwise available, it must, to the extent practicable, corroborate that information from independent sources that are reasonably at its disposal. We have interpreted “corroborate” to mean that we will, to the extent practicable, examine the reliability and relevance of the information submitted.³⁰

³⁰ See Notice of Final Determination of Sales at Less Than Fair Value: Certain Cold-Rolled Flat-Rolled Carbon-Quality Steel Products From Brazil, 65 FR 5554, 5568 (February 4, 2000); see, e.g., Tapered Roller Bearings and Parts Thereof, Finished and Unfinished, From Japan, and Tapered Roller Bearings, Four Inches or Less in Outside Diameter, and Components Thereof, From Japan; Preliminary Results of Antidumping Duty Administrative Reviews and Partial Termination of Administrative Reviews, 61 FR 57391, 57392 (November 6, 1996).

As total AFA, the Department preliminarily selected the highest adjusted petition rate of 33.28 percent.³¹ In the Amended Preliminary Determination, in accordance with section 776(c) of the Act, we corroborated our AFA margin by comparing it to the control number (“CONNUM”) margins we found for the cooperating mandatory respondents. We found that the margin of 33.18 percent had probative value because it was in the range of CONNUM model margins we found for the mandatory respondents, the Guang Ya Group/New Zhongya/Xinya, during the period of investigation.³² Accordingly, we found that the rate of 33.28 percent, which is only one tenth of a one percent difference from the rate applied in the Amended Preliminary Determination is corroborated within the meaning of section 776(c) of the Act.³³

³¹ See Amended Preliminary Determination; see also Amended Prelim Petition Rate Recalculation Memo; and the December 21, 2010, Memorandum to Christian Marsh, Deputy Assistant Secretary for Import Administration, from Wendy Frankel, Director, Office 8, entitled “Ministerial Error Memorandum, Aluminum Extrusions from the People's Republic of China, Preliminary Determination of Sales at Less Than Fair Value” (“Ministerial Error Memo”), at Issue 4.

³² See Amended Preliminary Determination Analysis Memo.

³³ Id.

Because there are no cooperating mandatory respondents to corroborate the 33.28 percent margin used as AFA for the Guang Ya Group/New Zhongya/Xinya and the PRC-wide entity, to the extent appropriate information was available, we revisited our pre-initiation analysis of the adequacy and accuracy of the information in the petition. See Antidumping Duty Investigation Initiation Checklist: Aluminum Extrusions from the People's Republic of China, dated April 20, 2010 (“Initiation Checklist”). We examined evidence supporting the calculations in the petition and the supplemental information provided by Petitioners prior to initiation to determine the probative value of the margins alleged in the petition. During our pre-initiation analysis, we examined the information used as the basis of export price and normal value (“NV”) in the petition, and the calculations used to derive the alleged margins. Also during our pre-initiation analysis, we examined information from various independent sources provided either in the petition or, based on our requests, in supplements to the petition (e.g., Global Trade Atlas, and Petitioners' experience with selling and producing the merchandise under consideration), which corroborated key elements of the export price and NV calculations. See Initiation Checklist at 6-10. We received no comments as to the relevance or probative value of this information. In our examination of the petition data to corroborate the 33.28 percent AFA rate for the final determination, the Department found nothing impinging the reliability or relevance of the petition rate, as adjusted.

We did receive comments on the Department's wage rate calculation, which was utilized to derive the petition margin. We have evaluated those comments and recalculated the labor wage rate used in calculating the Petition margin.³⁴

³⁴ See Petition Rate Recalculation Memo; see also Comment 1C, Labor Wage Rate in the accompanying Issues and Decision Memorandum.

Therefore, the Department finds that the margin of 33.28 percent has probative value for the purpose of being selected as the AFA rate assigned to the Guang Ya Group/New Zhongya/Xinya and the PRC-wide entity.

Combination Rates

In the Preliminary Determination, the Department stated that it would assign combination rates for respondents that are eligible for a separate rate in this investigation.³⁵ This practice is described in the Separate Rate Policy Bulletin.³⁶

³⁵ See Preliminary Determination; see also Aluminum Extrusions from the People's Republic of China: Initiation of Antidumping Duty Investigation, 75 FR 22109 (“Initiation Notice”).

³⁶ See Memorandum entitled “Separate-Rates Practice and Application of Combination Rates in Antidumping Investigations involving Non-Market Economy Countries” dated April 5, 2005, available at http://ia.ita.doc.gov/policy/index.html.

Final Determination Margins

The weighted-average dumping margin percentages are as follows:

Exporter * | Producer | Weighted- average margin
Guang Ya Aluminium Industries Co., Ltd.; Foshan Guangcheng Aluminium Co., Ltd.; Kong Ah International Company Limited; Guang Ya Aluminium Industries (Hong Kong) Limited | Guang Ya Aluminium Industries Co., Ltd.; Foshan Guangcheng Aluminium Co., Ltd.; Kong Ah International Company Limited; Guang Ya Aluminium Industries (Hong Kong) Limited; Zhaoqing New Zhongya Aluminum Co., Ltd.; Zhongya Shaped Aluminium (HK) Holding Limited; Karlton Aluminum Company Ltd.; Xinya Aluminum & Stainless Steel Product Co., Ltd. (A.K.A. New Asia Aluminum & Stainless Steel Product Co., Ltd.) | 33.28
Zhaoqing New Zhongya Aluminum Co., Ltd.; Zhongya Shaped Aluminium (HK) Holding Limited; Karlton Aluminum Company Ltd | Guang Ya Aluminium Industries Co., Ltd.; Foshan Guangcheng Aluminium Co., Ltd.; Kong Ah International Company Limited; Guang Ya Aluminium Industries (Hong Kong) Limited; Zhaoqing New Zhongya Aluminum Co., Ltd.; Zhongya Shaped Aluminium (HK) Holding Limited; Karlton Aluminum Company Ltd.; Xinya Aluminum & Stainless Steel Product Co., Ltd. (A.K.A. New Asia Aluminum & Stainless Steel Product Co., Ltd.) | 33.28
Alnan Aluminium Co., Ltd | Alnan Aluminium Co., Ltd | 32.79
Changshu Changsheng Aluminium Products Co., Ltd | Changshu Changsheng Aluminium Products Co., Ltd | 32.79
China Square Industrial Limited | Zhaoqing China Square Industry Limited | 32.79
Cosco (J.M.) Aluminium Co., Ltd | Cosco (J.M.) Aluminium Co., Ltd.; Jiangmen Qunxing Hardware Diecasting Co., Ltd | 32.79
First Union Property Limited | Top-Wok Metal Co., Ltd | 32.79
Foshan Jinlan Non-ferrous Metal Product Co. Ltd | Foshan Jinlan Aluminium Co. Ltd | 32.79
Foshan Sanshui Fenglu Aluminium Co., Ltd | Foshan Sanshui Fenglu Aluminium Co., Ltd | 32.79
Guangdong Hao Mei Aluminium Co., Ltd | Guangdong Hao Mei Aluminium Co., Ltd | 32.79
Guangdong Weiye Aluminium Factory Co., Ltd | Guangdong Weiye Aluminium Factory Co., Ltd | 32.79
Guangdong Xingfa Aluminium Co., Ltd | Guangdong Xingfa Aluminium Co., Ltd | 32.79
Hanwood Enterprises Limited | Pingguo Aluminium Company Limited | 32.79
Honsense Development Company | Kanal Precision Aluminium Product Co., Ltd | 32.79
Innovative Aluminium (Hong Kong) Limited | Taishan Golden Gain Aluminium Products Limited | 32.79
Jiangyin Trust International Inc | Jiangyin Xinhong Doors and Windows Co., Ltd | 32.79
JMA (HK) Company Limited | Guangdong Jianmei Aluminum Profile Company Limited; Foshan JMA Aluminium Company Limited | 32.79
Kam Kiu Aluminium Products Sdn Bhd | Tai Shan City Kam Kiu Aluminium Extrusion Co., Ltd | 32.79
Longkou Donghai Trade Co., Ltd | Shandong Nanshan Aluminum Co., Ltd | 32.79
Ningbo Yili Import and Export Co., Ltd | Zhejiang Anji Xinxiang Aluminum Co., Ltd | 32.79
North China Aluminum Co., Ltd | North China Aluminum Co., Ltd | 32.79
PanAsia Aluminium (China) Limited | PanAsia Aluminium (China) Limited | 32.79
Pingguo Asia Aluminum Co., Ltd | Pingguo Asia Aluminum Co., Ltd | 32.79
Popular Plastics Co., Ltd | Hoi Tat Plastic Mould & Metal Factory | 32.79
Press Metal International Ltd | Press Metal International Ltd | 32.79
Shenyang Yuanda Aluminium Industry Engineering Co. Ltd | Zhaoqing Asia Aluminum Factory Company Limited; Guang Ya Aluminum Industries Co., Ltd | 32.79
Tai-Ao Aluminium (Taishan) Co., Ltd | Tai-Ao Aluminium (Taishan) Co., Ltd | 32.79
Tianjin Ruixin Electric Heat Transmission Technology Co., Ltd | Tianjin Ruixin Electric Heat Transmission Technology Co., Ltd | 32.79
USA Worldwide Door Components (Pinghu) Co., Ltd; Worldwide Door Components (Pinghu) Co | USA Worldwide Door Components (Pinghu) Co., Ltd | 32.79
Zhejiang Yongkang Listar Aluminium Industry Co., Ltd | Zhejiang Yongkang Listar Aluminium Industry Co., Ltd | 32.79
Zhongshan Gold Mountain Aluminium Factory Ltd | Zhongshan Gold Mountain Aluminium Factory Ltd | 32.79
PRC-wide Entity |  | 33.28
* Because Xinya did not export subject merchandise to the United States during the POI, for the final determination, Xinya is not being considered for a separate rate.

Disclosure

We will disclose the calculations performed within five days of the date of publication of this notice to parties in this proceeding in accordance with 19 CFR 351.224(b).

Continuation of Suspension of Liquidation

In accordance with section 735(c)(1)(B) of the Act, we are directing U.S. Customs and Border Protection (“CBP”) to continue to suspend liquidation of all imports of subject merchandise entered or withdrawn from warehouse, for consumption on or after the date of publication of the Preliminary Determination in the Federal Register. We will instruct CBP to require a cash deposit or the posting of a bond equal to the weighted-average amount by which the NV exceeds U.S. price, as follows: (1) The rate for the exporter/producer combinations listed in the chart above will be the rate we have determined in this final determination; (2) for all PRC exporters of subject merchandise which have not received their own rate, the cash-deposit rate will be the PRC-wide rate; and (3) for all non-PRC exporters of subject merchandise which have not received their own rate, the cash-deposit rate will be the rate applicable to the PRC exporter/producer combination that supplied that non-PRC exporter. These suspension-of-liquidation instructions will remain in effect until further notice.

Additionally, as the Department has determined in its concurrent CVD investigation that the merchandise under investigation exported by the Guang Ya Group and New Zhongya benefitted from export subsidies, we will instruct CBP to require an antidumping cash deposit or posting of a bond equal to the weighted-average amount by which the NV exceeds the U.S. price for the Guang Ya Group/New Zhongya/Xinya, as indicated above, reduced by the simple average of the amounts determined to constitute export subsidies for the Guang Ya Group and New Zhongya (0.26 percent).³⁷ For the separate-rate companies, none of which were selected as respondents in the CVD investigation, we will instruct CBP to reduce the dumping margin by the amount of export subsidies included in the All Others rate from the CVD final determination (42.16 percent), published concurrently with this notice.³⁸

³⁷ See Aluminum Extrusions from the People's Republic of China: Final Affirmative Countervailing Duty Determination, and accompanying Issues and Decision Memorandum, dated concurrently with this notice; see also Memorandum: Countervailing Duty Investigation of Aluminum Extrusions from the People's Republic of China: Derivation of Adverse Facts Available (AFA) Net Subsidy Rate Applied in Final Determination (March 28, 2011).

³⁸ Id.

ITC Notification

In accordance with section 735(d) of the Act, we have notified the International Trade Commission (“ITC”) of our final determination of sales at LTFV. As our final determination is affirmative, in accordance with section 735(b)(2) of the Act, the ITC will, within 45 days, determine whether the domestic industry in the United States is materially injured or threatened with material injury, by reason of imports or sales (or the likelihood of sales) for importation of the subject merchandise. If the ITC determines that material injury or threat of material injury does not exist, the proceeding will be terminated and all securities posted will be refunded or canceled. If the ITC determines that such injury does exist, the Department will issue an antidumping duty order directing CBP to assess antidumping duties on all imports of the subject merchandise entered or withdrawn from warehouse for consumption on or after the effective date of the suspension of liquidation.

Notification Regarding APO

This notice also serves as a reminder to the parties subject to administrative protective order (“APO”) of their responsibility concerning the disposition of proprietary information disclosed under APO in accordance with 19 CFR 351.305. Timely notification of return or destruction of APO materials or conversion to judicial protective order is hereby requested. Failure to comply with the regulations and the terms of an APO is a sanctionable violation.

This determination and notice are issued and published in accordance with sections 735(d) and 777(i)(1) of the Act.

Dated: March 28, 2011.
Ronald K. Lorentzen,
Deputy Assistant Secretary for Import Administration.

Appendix I—List of Issues

I. General Issues

Comment 1: Labor Wage Rate

A. Whether the Department Should Calculate the Surrogate Value for Labor Using Multiple Surrogate Countries or a Single Country, India

B. If the Department Continues to Rely on a Basket of Countries, Whether that Data Should Be Limited to 2006 Data Onward and Should Exclude Ecuador

C. Whether the Department's Wage Rate Calculation as to the Ukraine is in Error

D. Whether To Use 2009 GNI Data Because it is Contemporaneous With the POI

E. Whether To Revise the Department's “Bookend” Countries Using Absolute Differences in GNI Data

F. Whether To Use the 2008 Wage Data for the Philippines Rather Than the 2003 Data

Comment 2: Double Remedies

Comment 3: Scope of the Antidumping and Countervailing Duty Investigations

A. Petitioners' Proposed Changes to the Scope

B. Clarifying Language for Covered Kits and Subassemblies

C. Certain Special High Purity/High Accuracy OPC Tubes

D. Shower Doors

E. Finish Types

F. Wall Thicknesses of Various Sizes

G. Heat Sinks

H. Baluster Kits

I. Grading Rings

J. Aluminum Tubes and Fin Evaporator Coils

Comment 4: Affiliation and Collapsing

Comment 5: Application of Total AFA

Comment 6: Whether To Recalculate Billet Consumption Using Partial AFA or Neutral Facts Available

Comment 7: Whether To Apply Partial AFA To New Zhongya's Constructed Export Price Sales

II. Other Issues

Because the issues identified below have been rendered moot by the Department's Application of Total AFA to the Guang Ya Group/New Zhongya/Xinya Single Entity, we have not responded to these comments for the final determination.

A. General Issues

○ Targeted Dumping

○ Financial Ratios

○ Surrogate Value for Aluminum Ingots

○ Surrogate Value for Coating Powders

○ Surrogate Value for Paints

○ Surrogate Values for New Factors of Production: Aluminum Billets, Sodium Carbonate, Hydrochloric Acid, and Paints

○ Surrogate Values for Movement Expenses: Foreign Inland Freight, Barge Freight, Foreign Brokerage and Handling, Ocean Freight, U.S. Brokerage and Handling, and U.S. Inland Freight

B. The Guang Ya Group Issues

○ Whether To Apply Partial AFA to Channel One Sales

○ Whether To Recalculate Credit Expenses Using Partial AFA

○ Whether To Include Bad Debt in Indirect Selling Expenses

○ Treatment of Sample Sales

○ Whether To Deduct Discounts from U.S. Price

○ Whether To Use AFA to Value Alkali Etching

○ Surrogate Value for Steel Shelves

C. New Zhongya Issues

○ Whether To Use New Zhongya's Market Economy Price For Aluminum Ingots

○ Whether To Recalculate Surrogate Value for Sodium Hydroxide and Ammonium Bifluoride

○ Whether To Use AFA To Value Aluminum Sealant, Chromaking Agent, Long Life Additive for Alkaline Etching, Deslagging Agent and Refining Agent

○ Wood Packing Materials

○ Whether To Value Movement Expenses Using Surrogate Values

○ Whether To Deduct the Difference Between Freight Costs and Freight Revenue

○ Whether To Treat Scrap Aluminum Ingot as a Direct Material Rather Than a Scrap Offset

○ How To Account for the Full Weight of All Packaging Materials

○ Whether To Value Wood Packing Materials Using AFA

[FR Doc. 2011-7927 Filed 4-1-11; 8:45 am]

BILLING CODE 3510-DS-P